LIBRARY OF CONGRESS

Copyright Office

37 CFR Part 255

[Docket No. RM 2000-7B]

Mechanical and Digital Phonorecord Delivery Compulsory License

AGENCY: Copyright Office, Library of Congress.

ACTION: Extension of comment period.

SUMMARY: The Copyright Office of the Library of Congress is extending the time period for filing additional comments on its Notice of Inquiry concerning the interpretation and application of the copyright laws to certain kinds of digital transmissions of prerecorded musical works in light of an agreement between the Recording Industry Association of America, Inc., the National Music Publishers Association, and The Harry Fox Agency. The due date for reply comments remains unchanged.

DATES: Comments are due no later than February 6, 2002. Reply comments are due February 27, 2002.

ADDRESSES: If sent by mail, an original and ten copies of the reply comments should be addressed to: Copyright Arbitration Royalty Panel (CARP), P.O. Box 70977, Southwest Station, Washington, D.C. 20024. If hand delivered, the reply comments, they should be brought to: Office of the General Counsel, James Madison Building, Room LM-403, First and Independence Ave., SE, Washington, D.C. 20559-6000.

FOR FURTHER INFORMATION CONTACT: David O. Carson, General Counsel, or Tanya M. Sandros, Attorney Advisor, Copyright GC/I&R, P.O. Box 70400, Southwest Station, Washington, D.C. 20024. Telephone: (202) 707-8380. Telefax: (202) 707-8366.

SUPPLEMENTARY INFORMATION:

Background

On March 9, 2001, the Copyright Office published a Notice of Inquiry in which it requested comments on the interpretation and application of the copyright law to certain kinds of digital transmissions of musical works. 66 FR 14099 (March 9, 2001). Subsequently, the Recording Industry of America, Inc. (“RIAA”), the National Music Publishers Association (“NMPA”) and The Harry Fox Agency (“HFA”) negotiated a private agreement which addressed the application of the mechanical compulsory license, as set forth in the Copyright Act, 17 U.S.C. 115, to two specific types of services discussed in the initial Notice of Inquiry and filed the agreement with the Copyright Office as part of this proceeding.

On December 14, 2001, the Copyright Office published a request for additional comments on its March 9 Notice of Inquiry in light of the RIAA/NMPA/HFA agreement (67 FR 64783). On January 28, 2002, the date comments were due, RIAA and NMPA filed a joint request for more time to fill the requested comments. These parties stated that at the last moment they identified questions that had not been fully appreciated or addressed in their respective comments. They expressed concern that failure to address these issues could be misinterpreted and asked for a two week extension to draft more comprehensive comments. Moreover, as the parties to the Agreement that is the subject of the request for additional comments, these parties argue that “it would benefit the record, any other commenting parties, and the public—and narrow the range of issues to be presented to the Copyright Office—if [they] were afforded an opportunity to address these questions.”

Although it is not uncommon for the Office to grant extensions when a party has made a showing of need, it is reluctant to do so when the request is made on the day of the filing deadline, since it is very disruptive and unfair to those who have met the deadline. However, because NMPA and RIAA are the parties to the agreement that is the subject of the request for additional comments, the Office believes it is important to obtain their comments in the first round. Therefore, the date for filing the requested comments has been extended. Comments are now due no later than Wednesday, February 6, 2002. There shall be no further extension of this deadline. The date for filing reply comments remains unchanged. Reply comments shall be due on Wednesday, February 27, 2002.

Dated: January 29, 2002.
David O. Carson,
General Counsel.

[FR Doc. 02-2503 Filed 1-30-02; 8:45 am]

BILLING CODE 1410-31-P